DEPARTMENT OF LABOR

Employment and Training Administration

[TA-W-55,227]

Robert Bosch Corporation, Automotive Technology—Chassis Division Including Leased Workers at Olsten Staffing, Food Service, Inc, IH Services, Securitas and Huffmaster Co., Formerly Known as Defender Services Sumter, SC; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on August 2, 2004, applicable to workers of Robert Bosch Corporation, Automotive Technology—Chassis Division, including leased workers at Olsten Staffing, Sumter, South Carolina. The notice was published in the Federal Register on August 20, 2004 (69 FR 51716).

At the request of the company, the Department reviewed the certification for workers of the subject firm. New information shows that the leasing firm originally named Defender Services, was renamed Huffmaster Co. in early 2005. The State agency reports that some workers wages at Defender Services, working on-site at Sumter, South Carolina location of the subject firm, are being reported under the Unemployment Insurance (UI) tax account for Huffmaster Co.

Accordingly, the Department is amending this certification to properly reflect this matter.

The intent of the Department's certification is to include all workers employed at Robert Bosch Corporation, Automotive Technology—Chassis Division, who were adversely affected by a shift in production to Mexico.

The amended notice applicable to TA-W-55,227 is hereby issued as follows:

“All workers of Robert Bosch Corporation, Automotive Technology—Chassis Division, Sumter, South Carolina, including leased workers of Olsten Staff, Food Service, Inc., IH Services, Securitas and Huffmaster Co, formerly known as Defender Services, working at Robert Bosch Corporation, Automotive Technology—Chassis Division, Sumter, South Carolina, who became totally or partially separated from employment on or after July 2, 2003, through August 2, 2006, are eligible to apply for adjustment assistance under section 223 of the Trade Act of 1974, and are also eligible to apply for alternative trade adjustment assistance under Section 246 of the Trade Act of 1974.”

Signed at Washington, DC this 14th day of February 2006.
Elliott S. Kushner,
Certifying Officer, Division of Trade Adjustment Assistance.

[FR Doc. E6-3419 Filed 3-9-06; 8:45 am]

BILLING CODE 4510-30-P